COMMISSION ON CIVIL RIGHTS

Sunshine Act Meeting Notice

AGENCY: United States Commission on Civil Rights.

ACTION: Notice of special meeting.

DATES: Date and Time: Friday, October 10, 2014; 9:30 a.m. EDT.

ADDRESSES: Place: 1331 Pennsylvania Ave. NW., (entrance on F Street NW.,) Suite 1150, Washington, DC 20425.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Business Meeting Agenda

I. Approval of the Agenda

II. Management and Operations

• Discussion on Personnel Matters

III. Adjournment of Meeting

Dated: October 2, 2014.
Marlene Sallo,
Staff Director.

[FR Doc. 2014-23971 Filed 10-3-14; 11:15 am]

BILLING CODE 6335-01-P